ENVIRONMENTAL PROTECTION AGENCY

40 CFR Part 86

[AMS-FRL-7132-8]

RIN 2060-AJ73

Control of Air Pollution From New Motor Vehicles and New Motor Vehicle Engines; Proposed Non-Conformance Penalties for 2004 and Later Model Year Emission Standards for Heavy-Duty Diesel Engines and Heavy-Duty Diesel Vehicles; Correction

AGENCY: Environmental Protection Agency (EPA).

ACTION: Notice of proposed rulemaking; correction.

SUMMARY: This document corrects the preamble to a proposed rule published in the Federal Register of January 16, 2002, regarding non-conformance penalties for heavy-duty diesel engines and vehicles. This correction provides the correct EPA docket number for the submission of comments on the proposed rule.

FOR FURTHER INFORMATION CONTACT: Margaret Borushko, U.S. EPA, National Vehicle and Fuels Emission Laboratory, 2000 Traverwood, Ann Arbor, MI 48105; Telephone (734) 214-4334; Fax: (734) 214-4816; e-mail: borushko.margaret@epa.gov.

Correction

In the Federal Register of January 16, 2002, in FR Doc. 02-1109, on page 2159, in the second column, correct the Addresses caption to read:

ADDRESSES: Comments: We must receive your comments by the date indicated under DATES above. Send paper copies of written comments (in duplicate if possible) to the contact person listed below. In your correspondence, refer to Docket A-2001-25. See Section VI.B for more information on comment procedures.

Public hearing: We will hold a public hearing on February 15, 2002 at the Washington Dulles Airport Marriott, 45020 Aviation Drive, Dulles, Virginia 20166. Phone: (703-471-9500). If you want to testify at the hearing, notify the contact person listed below at least ten days before the date of the hearing. See Section VI.B for more information on the public-hearing procedures.

Public docket: EPA's Air Docket makes materials related to this rulemaking available for review in Docket No. A-2001-25 located at U.S. Environmental Protection Agency (EPA), Air Docket (6102), Room M-1500, 401 M. Street, SW., Washington, DC 20460 (on the ground floor in Waterside Mall) from 8 a.m. to 5:30 p.m., Monday through Friday, except on government holidays. You can reach the Air Docket by telephone at (202) 260-4400. We may charge a reasonable fee for copying docket materials, as provided in 40 CFR part 2.

Dated: January 18, 2002.
Jeffrey R. Holmstead,
Assistant Administrator, Office of Air and Radiation.

[FR Doc. 02-1880 Filed 1-24-02; 8:45 am]

BILLING CODE 6560-50-P